DEPARTMENT OF COMMERCE

Foreign-Trade Zones Board

[B-29-2023]

Foreign-Trade Zone (FTZ) 7; Authorization of Production Activity; AbbVie Ltd.; (Pharmaceutical Products); Barceloneta, Puerto Rico

On April 10, 2023, AbbVie Ltd., submitted a notification of proposed production activity to the FTZ Board for its facility within Subzone 7I, in Barceloneta, Puerto Rico.

The notification was processed in accordance with the regulations of the FTZ Board (15 CFR part 400), including notice in the Federal Register inviting public comment (88 FR 24386, April 20, 2023). On August 8, 2023, the applicant was notified of the FTZ Board's decision that no further review of the activity is warranted at this time. The production activity described in the notification was authorized, subject to the FTZ Act and the FTZ Board's regulations, including section 400.14.

Dated: August 8, 2023.
Elizabeth Whiteman,
Executive Secretary.

[FR Doc. 2023-17232 Filed 8-10-23; 8:45 am]

BILLING CODE 3510-DS-P